DEPARTMENT OF THE INTERIOR

National Park Service

[NPS-WASO-BSD-COMM-16657; PPWOBSADC0, PPMVSCS1Y.Y00000]

Proposed Information Collection; National Park Service Concessions

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on November 30, 2016. We may not conduct or sponsor and a person is not required to respond to a collection of information unless it displays a currently valid OMB control number.

DATES: To ensure that we are able to consider your comments on this IC, we must receive them by May 26, 2015.

ADDRESSES: Send your comments on the IC to Madonna L. Baucum, Information Collection Clearance Officer, National Park Service, 1849 C Street, NW. (2601), Washington, DC 20240) (mail); or madonna_baucum@nps.gov (email). Please include “1024-0029” in the subject line of your comments. You can view the currently approved collection at www.reginfo.gov.

FOR FURTHER INFORMATION CONTACT: To request additional information about this IC, contact Brian P. Borda, Chief, Commercial Services Program, National Park Service, 1201 I Street NW., Washington, DC 20005 (mail), (202) 513-7156 (phone), or brian_borda@nps.gov (email) .

SUPPLEMENTARY INFORMATION:

I. Abstract. Private businesses under contract to the National Park Service manage food, lodging, tours, whitewater rafting, boating, and many other recreational activities and amenities in more than 100 national parks. These services gross more than $1 billion every year and provide jobs for more than 25,000 people during peak season.

The regulations at 36 CFR part 51 primarily implement Title IV of the National Parks Omnibus Management Act of 1998 (Pub. L. 105-391) which provides legislative authority, policies, and requirements for the solicitation, award, and administration of NPS concession contracts. Following are the information collection requirements associated with soliciting, awarding, and administering NPS concessions.

(1) Proposals.

(2) Amendments.

(3) Appeals.

(4) Request to Construct a Capital Improvement.

(5) Construction Report.

(6) Application to Sell or Transfer Concession Operation.

(7) Annual Financial Statements.

(8) Recordkeeping.

The only revision we are proposing to the currently approved collection is the addition of a Schedule R to NPS Form 10-356 and data collection fields to NPS Form 10-356a. Some concessioner contracts have an approved rate add-on to cover a portion of the cost of NPS-provided utilities when those utility costs are in excess of industry norms. Concessioners choose how to account for the approved rate add-on in their annual financial report on forms 10-356 or 10-356A according to best industry accounting practices. However, the currently approved forms do not include any schedules or collection areas that show the amount of revenue collected in excess of approved rates or the cost of utilities provided by the National Park Service to the concessioner. This information is necessary to ensure that visitors are only charged the approved rate add-on amount and to ensure that we have a comprehensive view of the concessioner's financial situation as it relates to the regulations at 36 CFR part 51. The proposed forms will collect the approved add-on amount, the amount collected, and the actual costs of NPS-provided utilities.

II. Data

OMB Control Number: 1024-0029.

Title: National Park Service Concessions, 36 CFR 51.

Service Form Numbers: 10-356, 10-356A.

Type of Request: Revision of a currently approved collection.

Description of Respondents: Individuals, businesses, and nonprofit organizations.

Respondent's Obligation: Required to obtain or retain a benefit.

Frequency of Collection: On occasion for proposals, amendments, and appeals; annually for financial reports; and ongoing for recordkeeping.

Activity | Number of respondents | Number of annual responses | Completion time per response (hours) | Total annual burden hours * | Estimated nonhour burden cost
Proposals:
Large Concessions | 30 | 30 | 240 | 7,200 | $240,000
Small Concessions | 60 | 60 | 80 | 4,800 | 180,000
Appeal | 1 | 1 | 1 | 1 | 0
Appeal | 1 | 1 | .5 | 1 | 0
Request to Construct Capital Improvement:
Large Projects | 31 | 31 | 16 | 496 | 0
Small Projects | 89 | 89 | 8 | 712 | 0
Construction Report:
Large Projects | 31 | 31 | 56 | 1,736 | 0
Small Projects | 89 | 89 | 24 | 2,136 | 0
Application to Sell/Transfer Concession Operation | 20 | 20 | 80 | 1,600 | 5,000
Annual Financial Statements:
Form 10-356 | 150 | 150 | 16.2 | 2,430 | 0
Form 10-356A | 350 | 350 | 4.2 | 1,470 | 0
Recordkeeping:
Large Concessions | 150 | 150 | 800 | 119,925 | 0
Small Concessions | 350 | 350 | 50 | 17,500 | 0
TOTALS | 1,352 | 1,352 |  | 160,007 | 425,000
* Rounded.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: March 19, 2015.
Madonna L. Baucum,
Information Collection Clearance Officer, National Park Service.

[FR Doc. 2015-06803 Filed 3-24-15; 8:45 am]

BILLING CODE 4310-EH-P